DEPARTMENT OF COMMERCE

Submission for OMB Review

The Department of Commerce will submit to the Office of Management and Budget (OMB) for clearance the following proposal for collection of information under the emergency provisions of the Paperwork Reduction Act (44 U.S.C. Chapter 35).

Agency: National Telecommunications and Information Administration (NTIA).

Title: NTIA Message Testing Focus Groups for the Digital-to-Analog Converter Box Coupon Program.

Agency Form Number: None.

Type of Request: Emergency submission.

Burden: 352 hours.

Average Time Per Response: 2 hours.

Needs and Uses: Congress directed the National Telecommunications and Information Administration (NTIA) to create and implement a program to provide coupons for consumers to purchase digital-to-analog converter boxes. (See Title III of the Deficit Reduction Act of 2005, Pub. L. No. 109-171, 120 Stat. 4, 21 (Feb. 8, 2006)). These converter boxes are necessary for consumers who wish to continue receiving broadcast programming over the air using analog-only television sets after February 18, 2009—the date that television stations are required by law to cease analog broadcasting. The regulations permit consumers to submit applications to NTIA for coupons beginning January 1, 2008. See 47 CFR 301.3(b).

An effective consumer education campaign, including the development of a campaign identity, messages, and consumer materials, is essential to the Coupon Program. Of particular importance is the development of an application for consumers that is easy to understand and to submit to NTIA. In an effort to ensure that the materials and messages developed for the campaign resonate with all target audiences, these items will be tested with representatives from targeted audiences. The targeted audiences, identified as the more reliant on over-the-air television, include the following: (1) Economically disadvantaged households; (2) rural residents; (3) minorities; (4) people with disabilities; and (5) seniors. Representatives from the target audiences will participate in “focus groups” to assist NTIA in determining the clarity of the message; identifying difficulty or ease in presenting and receiving pertinent information; and improving the presentation of the information.

Nineteen (19) focus groups are scheduled in eight cities and via teleconference. Five additional participants will be interviewed who are deaf or hard of hearing for a total number of 176 participants. The information will be collected by Ketchum, Inc., a global public relations firm, that is leading the consumer education program as a subcontractor to IBM, NTIA's prime contractor. NTIA awarded a contract to IMB in August 2007 to administer the diverse operational elements of the Coupon Program. The information will be used to develop a consumer application as well as other consumer education materials related to the Coupon Program.

Affected Public: Individuals or households.

Respondent's Obligation: Voluntary.

OMB Desk Officer: Jasmeet K. Seehra, (202) 395-3123.

Copies of the above information collection proposal can be obtained by calling or writing Diana Hynek, Departmental Paperwork Clearance Officer, (202) 482-0266, Department of Commerce, Room 6625, 14th and Constitution Avenue, NW., Washington, DC 20230.

Written comments and recommendations for the proposed information collection should be sent within 7 days of publication of this notice to Jasmeet Seehra, OMB Desk Officer, FAX number (202) 395-5167 or via the Internet at Jasmeet_K._Seehra@omb.eop.gov.

Dated: October 19, 2007.
Gwellnar Banks,
Management Analyst, Office of the Chief Information Officer.

[FR Doc. E7-21029 Filed 10-24-07; 8:45 am]

BILLING CODE 3510-60-P